DEPARTMENT OF AGRICULTURE

Forest Service

Manti-La Sal National Forest; State of Utah, State Institutional Trust Lands Administration Access Route on East Mountain, Emery County, UT; Notice of Intent To Prepare an Environmental Impact Statement

AGENCY: Forest Service, USDA.

ACTION: Notice of Intent to prepare an Environmental Impact Statement.

SUMMARY: The Forest Service (FS) will prepare an Environmental Impact Statement (EIS) to disclose the impacts of authorizing an access route across National Forest System Lands to the State of Utah State Institutional Trust Lands Administration (SITLA) inholdings in Emery County, Utah.

Agency Decision

The Regional Forester, Intermountain Region, must decide whether or not to authorize access to SITLA inholdings and what Terms and Conditions to require for resource protection.

DATES: Comments concerning the scope of the analysis must be received within 30 days from the date of publication of this Notice of Intent (NOI) in the Federal Register. The Draft Environmental Impact Statement (DEIS) is expected by May 2003, and the Final Environmental Impact Statement (FEIS) is expected by February 2004.

ADDRESSES: Send written comments to Elaine J. Zieroth, Forest Supervisor, Manti-La Sal National Forest, 599 West Price River Drive, Price, Utah, 84501, ATTN: Leland Matheson.

FOR FURTHER INFORMATION CONTACT: Aaron Howe, Mineral and Lands Staff Officer, Manti-La Sal National Forest 599 West Price River Drive, Price, Utah, 84501.

SUPPLEMENTARY INFORMATION: The Forest Service will prepare an EIS to decide whether to authorize SITLA to construct and reconstruct an access route across National Forest System Lands, for management purposes including timber removal, on their inholdings on East Mountain. A segment of the access route would traverse portions of the East Mountain Inventoried Roadless Area.

The SITLA inholdings consist of two sections: Section 36, T15S, R6E, (about 634 acres) and Section 2, T16S, R6E (about 987 acres). Provisions of the Alaska National Interest Lands Conservation Act (ANILCA) of 1980, section 1323(a)(16 U.S.C. 3210) provides that the owners of non-Federal land within the National Forest System shall be provided adequate access to their land. Regulations implementing section 1323(a) are set forth in Title 36, Code of Federal Regulations, part 251, subpart D—Access to Non-Federal Lands. The Forest Service Policy is further explained in the Forest Service Manual (FSM) 5400 and 2700. Access must comply with other laws and regulations such as the Threatened and Endangered Species Act, Clean Water Act, Historic Preservation Act, and the National Environmental Protection Act.

Purpose and Need for Action

The purpose and need for this action is to provide an adequate access route across National Forest System Lands to SITLA inholdings consistent with applicable laws, regulations, and Forest Service Policy.

Proposed Action

The Forest Service proposes to authorize SITLA permanent occupancy and use of National Forest System Lands along the proposed access location subject to terms and conditions.

Responsible Official

The Responsible Official for the Record of Decision is Jack G. Troyer, Regional Forester, Intermountain Region, 324 25th Street, Ogden, Utah 84401.

Scoping Process

This Notice of Intent initiates the scoping process which guides the development of the EIS. Scoping will be by Newspaper Legal Notice, mailings to interested parties and Quarterly Schedule of Proposed Actions. No public meetings are planned.

Preliminary Issues

Preliminary issues have been identified as new road construction in the East Mountain Inventoried Roadless Area and unstable steep slopes.

Comment Requested

If you choose to participate, your comments should be in writing and as specific as possible. All comments will be considered. Please note: comments submitted, as well as the names and addresses of those who comment, are considered part of the public record and will be released if requested under the Freedom of Information Act. If you provide a comment, you will remain on our mailing list for this project. If you do not comment but want to remain on the mailing list, please notify us. Those who do not comment or otherwise notify us will be dropped from the mailing list for this project. The estimated dates for filing the draft EIS is May 2003 and the FEIS is February 2004.

Early Notice of Importance of Public Participation in Subsequent Environmental Review

A DEIS will be prepared for comment. The comment period on the DEIS will be 45 days from the date the Environmental Protection Agency publishes the notice of availability in the Federal Register.

The Forest Service believes, at this early stage, it is important to give reviewers notice of several court rulings related to public participation in the environmental review process. First, reviewers of DEIS must structure their participation in the environmental review of the proposal so that it is meaningful and alerts an agency to the reviewer's position and contentions. Vermont Yankee Nuclear Power Corp. v. NRDC, 435 U.S. 519, 553 (1978). Also, environmental objections that could be raised at the DEIS stage but that are not raised until after completion of the FEIS may be waived or dismissed by the courts. City of Angoon v. Hodel, 803 F.2d 1016, 1022 (9th Cir. 1986) and Wisconsin Heritages, Inc. v. Harris, 490 F. Supp. 1334, 1338 (E.D. Wis 1980). Because of these court rulings, it is very important that those interested in this proposed action participate by the close of the 45 day comment period so that substantive comments and objections are made available to the Forest Service at a time when it can meaningfully consider them and respond to them in the FEIS.

To assist the Forest Service in identifying and considering issues and concerns on the proposed action, comments on the DEIS should be as specific as possible. It is also helpful if comments refer to specific pages or chapters of the draft statement. Comments may also address the adequacy of the DEIS or the merits of the alternatives formulated and discussed in the statement. Reviewers may wish to refer to the Council on Environmental Quality Regulations for implementing the procedural provisions of the National Environmental Policy Act at 40 CFR 1503.3 in addressing these points.

Authority: 40 CFR 1501.7 and 1508.22; Forest Service Handbook 1909.15, Section 21.

Dated: April 19, 2002.
Elaine J. Zieroth,
Forest Supervisor, Intermountain Region.

[FR Doc. 02-10465 Filed 5-2-02; 8:45 am]

BILLING CODE 3410-11-M